DEPARTMENT OF THE INTERIOR

National Park Service

List of Programs Eligible for Inclusion in Fiscal Year 2008 Funding Agreements To Be Negotiated With Self-Governance Tribes

AGENCY: National Park Service, Interior.

ACTION: Notice.

SUMMARY: This notice lists programs or portions of programs that are eligible for inclusion in Fiscal Year 2008 funding agreements with self-governance tribes and lists programmatic targets pursuant to section 405(c)(4) of the Tribal Self-Governance Act.

DATES: This notice expires on September 30, 2008.

ADDRESSES: Inquiries or comments regarding this notice may be directed to the American Indian Liaison Office, 1201 Eye Street, NW. (Org. 2560, 9th Floor), Washington, DC 20005.

SUPPLEMENTARY INFORMATION:

I. Background

Title II of the Indian Self-Determination Act Amendments of 1994 (Pub. L. 103-413, the “Tribal Self-Governance Act” or the “Act”) instituted a permanent self-governance program at the Department of the Interior (DOI). Under the self-governance program certain programs, services, functions, and activities, or portions thereof, in DOI bureaus other than the Bureau of Indian Affairs (BIA) are eligible to be planned, conducted, consolidated, and administered by a self-governance tribal government.

Under section 405(c) of the Act, the Secretary of the Interior is required to publish annually: (1) A list of non-BIA programs, services, functions, and activities, or portions thereof, that are eligible for inclusion in agreements negotiated under the self-governance program; and (2) programmatic targets for these bureaus.

Under the Act, two categories of non-BIA programs are eligible for self-governance funding agreements (AFAs):

(1) Under section 403(b)(2) of the Act, any non-BIA program, service, function or activity that is administered by DOI that is “otherwise available to Indian tribes or Indians,” can be administered by a tribal government through a self-governance funding agreement. The Department interprets this provision to authorize the inclusion of programs eligible for self-determination contracts under Title I of the Indian Self-Determination and Education Assistance Act (Pub. L. 93-638, as amended). Section 403(b)(2) also specifies “nothing in this subsection may be construed to provide any tribe with a preference with respect to the opportunity of the tribe to administer programs, services, functions and activities, or portions thereof, unless such preference is otherwise provided by law.”

(2) Under section 403(c) of the Act, the Secretary may include other programs, services, functions, and activities or portions thereof that are of “special geographic, historical, or cultural significance” to a self-governance tribe.

Under section 403(k) of the Act, funding agreements cannot include programs, services, functions, or activities that are inherently Federal or where the statute establishing the existing program does not authorize the type of participation sought by the tribe. However, a tribe (or tribes) need not be identified in the authorizing statutes in order for a program or element to be included in a self-governance funding agreement. While general legal and policy guidance regarding what constitutes an inherently Federal function exists, we will determine whether a specific function is inherently Federal on a case-by-case basis considering the totality of circumstances.

II. Eligible non-BIA Programs of the National Park Service

Below is a listing of the types of non-BIA programs, or portions thereof, that may be eligible for self-governance funding agreements because they are either “otherwise available to Indians” under Title I and not precluded by any other law, or may have “special geographic, historical, or cultural significance” to a participating tribe. The list represents the most current information on programs potentially available to tribes under a self-governance funding agreement.

The National Park Service will also consider for inclusion in funding agreements other programs or activities not included below, but which, upon request of a self-governance tribe, the National Park Service determines to be eligible under either sections 403(b)(2) or 403(c) of the Act. Tribes with an interest in such potential agreements are encouraged to begin such discussions.

The National Park Service welcomes comments from self-governance regarding the content and format of this list.

The National Park Service administers the National Park System, which is made up of national parks, monuments, historic sites, battlefields, seashores, lake shores, and recreation areas. The National Park Service maintains the park units, protects the natural and cultural resources, and conducts a range of visitor services such as law enforcement, park maintenance, and interpretation of geology, history, and natural and cultural resources.

Some elements of the following programs may be eligible for inclusion in a self-governance funding agreement. This listing below was developed considering the proximity of an identified self-governance tribe to a national park, monument, preserve, or recreation area and the types of programs that have components that may be suitable for contracting through a self-governance agreement. This listing is not all-inclusive, but is representative of the types of programs which may be eligible for tribal participation through a funding agreement.

a. Archaeological Surveys

b. Comprehensive Management Planning

c. Cultural Resource Management Projects

d. Ethnographic Studies

e. Erosion Control

f. Fire Protection

g. Gathering Baseline Subsistence Data, Alaska

h. Hazardous Fuel Reduction

i. Housing Construction and Rehabilitation

j. Interpretation

k. Janitorial Services

l. Maintenance

m. Natural Resource Management Projects

n. Operation of Campgrounds

o. Range Assessment, Alaska

p. Reindeer Grazing, Alaska

q. Road Repair

r. Solid Waste Collection and Disposal

s. Trail Rehabilitation

t. Watershed Restoration and Maintenance

u. Beringia Research

v. Elwha River Restoration

Locations of National Park Service Units With Close Proximity to Self-Governance Tribes

1. Bering Land Bridge National Park, Alaska.

2. Cape Krusenstern National Monument, Alaska.

3. Gates of the Arctic National Park & Preserve, Alaska.

4. Glacier Bay National Park and Preserve, Alaska.

5. Katmai National Park and Preserve, Alaska.

6. Kenai Fjords National Park, Alaska.

7. Klondike Gold Rush National Historical Park, Alaska.

8. Kobuk Valley National Park, Alaska.

9. Lake Clark National Park and Preserve, Alaska.

10. Noatak National Preserve, Alaska.

11. Sitka National Historical Park, Alaska.

12. Wrangell-St. Elias National Park and Preserve, Alaska.

13. Yukon-Charley Rivers National Preserve, Alaska.

14. Casa Grande Ruins National Monument, Arizona.

15. Hohokam Pima National Monument, Arizona.

16. Montezuma Castle National Monument, Arizona.

17. Organ Pipe Cactus National Monument, Arizona.

18. Saguaro National Park, Arizona.

19. onto National Monument, Arizona.

20. Tumacacori National Historical Park, Arizona.

21. Tuzigoot National Monument, Arizona.

22. Arkansas Post National Memorial, Arkansas.

23. Joshua Tree National Park, California.

24. Lassen Volcanic National Park, California.

25. Redwood National Park, California.

26. Whiskeytown National Recreation Area, California.

27. Hagerman Fossil Beds National Monument, Idaho.

28. Effigy Mounds National Monument, Iowa.

29. Fort Scott National Historic Site, Kansas.

30. Tallgrass Prairie National Preserve, Kansas.

31. Boston Harbor Islands, a National Park Area, Massachusetts.

32. Cape Cod National Seashore, Massachusetts.

33. New Bedford Whaling National Historical Park, Massachusetts.

34. Sleeping Bear Dunes National Lakeshore, Michigan.

35. Grand Portage National Monument, Minnesota.

36. Voyageurs National Park, Minnesota.

37. Bear Paw Battlefield, Nez Perce National Historical Park, Montana.

38. Glacier National Park, Montana.

39. Great Basin National Park, Nevada.

40. Aztec Ruins National Monument, New Mexico.

41. Bandelier National Monument, New Mexico.

42. Carlsbad Caverns National Park, New Mexico.

43. Chaco Culture National Historical Park, New Mexico.

44. White Sands National Monument, New Mexico.

45. Fort Stanwix National Monument, New York.

46. Cuyahoga Valley National Park, Ohio.

47. Hopewell Culture National Historical Park, Ohio.

48. Chickasaw National Recreation Area, Oklahoma.

49. John Day Fossil Beds National Monument, Oregon.

50. Alibates Flint Quarries National Monument, Texas.

51. Guadalupe Mountains National Park, Texas.

52. Lake Meredith National Recreation Area, Texas.

53. Ebey's Landing National Recreation Area, Texas.

54. Mt. Rainier National Park, Washington.

55. Olympic National Park, Washington.

56. San Juan Islands National Historical Park, Washington.

57. Whitman Mission National Historic Site, Washington.

For questions regarding self-governance contact Dr. Patricia Parker, Chief, American Indian Liaison Office, National Park Service, 1201 Eye Street, NW., (Org. 2560, 9th Floor), Washington, DC 20005, telephone 202-354-6965, fax 202-371-6609.

III. Programmatic Targets

During Fiscal Year 2008, upon request of a self-governance tribe, the National Park Service will negotiate funding agreements for its eligible programs beyond those already negotiated.

The National Park Service currently has self-governance annual funding agreements with the Yurok Tribe and Redwood National Park, the Grand Portage Band of Chippewa Indians and Grand Portage National Monument, and the Lower Elwha Tribal Community and Olympic National Park.

Dated: October 31, 2007.
David Verhey,
Acting Assistant Secretary for Fish and Wildlife and Parks.

[FR Doc. E7-22733 Filed 11-20-07; 8:45 am]

BILLING CODE 4312-52-P